FEDERAL COMMUNICATIONS COMMISSION

47 CFR Part 73

[DA 05-3027; MB Docket No. 05-17, RM-11113, RM-11114]

Radio Broadcasting Services; Connersville, IN, Erlanger, KY, Lebanon, KY, Lebanon Junction, KY, Madison, IN, New Haven, KY, Norwood, OH, Richmond, IN, and Springfield, KY

AGENCY: Federal Communications Commission.

ACTION: Final rule.

SUMMARY: This document grants a petition filed by Rodgers Broadcasting seeking the substitution of Channel 262A for Channel 262B at Connersville, Indiana, reallotment of Channel 262A from Connersville, Indiana to Norwood, Ohio, as its first local service and modification of Station WIFE(FM) license accordingly. See 70 FR 7219, published February 11, 2005. The document also grants the substitution of Channel *265A for vacant Channel *266A at Madison, Indiana; the substitution of Channel 267B1 for Channel 267B at Richmond, Indiana and modification of the FM Station WFMG license accordingly; the substitution of Channel 266A for Channel 265A at Erlanger, Kentucky, and modification of the FM Station WIZF license accordingly; and the substitution of Channel 265A for Channel 265C3 at Lebanon, Kentucky, and modification of the WLSK(FM) license accordingly. See SUPPLEMENTARY INFORMATION.

DATES: Effective January 9, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-17, adopted November 23, 2005, and released November 25, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

Channel 262A can be allotted to Norwood provided there is a site restriction of 9.4 kilometers (5.8 miles) southwest at coordinates 39-07-19 NL and 84-32-52 WL. Channel 266A can be allotted to Erlanger at Station's WIZF current license site at coordinates 39-06-18 NL and 84-33-24 WL. Channel 265A can be allotted to Madison at its current reference site at coordinates 38-49-15 NL and 85-18-46 WL. Channel 267B1 can be allotted to Richmond provided there is a site restriction of 11.6 kilometers (7.2 miles) northwest at coordinates 39-55-09 NL and 84-57-47 WL. Channel 265A can be allotted to Lebanon provided there is a site restriction 9.6 kilometers (6.0 miles) northeast at coordinates 37-38-50 NL and 85-11-50 WL.

This document also dismissed the petition jointly filed by Washington County CBC, Inc., licensee of Station WAKY-FM, Channel 274A, Springfield, Kentucky, Elizabethtown CBC, Inc., licensee of Station WTHX, Channel 297A, Lebanon Junction, Kentucky and CBC of Marion County, Inc., licensee of Station WLSK, Channel 265C3, Lebanon, Kentucky, requesting the reallotment of Channel 297A from Lebanon Junction to New Haven, Kentucky, as its first local service and modification of the Station WTHX(FM) license and the Amended Proposal jointly filed by Washington County CBC, Inc., Elizabethtown CBC, Inc., CBC of Marion County, Inc., Newberry Broadcasting, Inc., licensee of Station WHHT(FM), Channel 294A, Horse Cave, Kentucky, and Cumulus Licensing LLC, licensee of Stations WNFN(FM), Channel 294A, Belle Meade, Tennessee, WRQQ(FM), Channel 246C2, Goodlettsville, Tennessee, WQQK(FM), Channel 221A, Hendersville, Tennessee, and WWTN(FM), Channel 259C, Manchester, Tennessee.

Additionally, the document dismisses the counterproposal filed by Indiana Community Radio, licensee of noncommercial educational Station WJCF, Channel 201A, Morristown, Indiana and a proposal filed by Hoosier Public Radio Corporation, licensee of noncommercial educational Station WFCI, Channel 208A, Franklin, Indiana.

List of Subjects in 47 CFR Part 73

Radio, Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Indiana, is amended by removing Connersville, Channel 262B, by removing Channel *266A and adding Channel *265A at Madison, by removing Channel 267B and by adding Channel 267B1 at Richmond.

3. Section 73.202(b), the Table of FM Allotments under Kentucky, is amended by removing Channel 265A and adding Channel 266A at Erlanger, by removing Channel 265C3 and adding Channel 265A at Lebanon.

4. Section 73.202(b), the Table of FM Allotments under Ohio, is amended by adding Norwood, Channel 262A.

Federal Communications Commission.
John A. Karousos,
Assistant Chief, Audio Division, Media Bureau.

[FR Doc. 05-24034 Filed 12-13-05; 8:45 am]

BILLING CODE 6712-01-P